FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than May 8, 2013.

A. Federal Reserve Bank of Chicago (Colette A. Fried, Assistant Vice President) 230 South LaSalle Street, Chicago, Illinois 60690-1414:

1. LAF—GW Investments, LLC (“LAF-GW”), an Arkansas limited liability company, individually, with Stephen L. LaFrance, Jr., Little Rock, Arkansas, as the sole manager, and LAF-GW and Stephen L. LaFrance, Jr., together as a group acting in concert with JSJ Properties, LLC, a Missouri limited liability company, with Stephen L. LaFrance, Jr., Jason P. LaFrance, and Joe Courtright, both of Little Rock, Arkansas, as managers, LAF Brothers Properties, LLC, an Arkansas limited liability company, with Stephen L. LaFrance, Jr. and Jason P. LaFrance as managers, the Stephen L. LaFrance, Sr. GW Investments Trust, with Stephen L. LaFrance, Jr. and Jason P. LaFrance as trustees, Jason P. LaFrance, and the Amy LaFrance Bancroft GW Investments Trust, with Stephen L. LaFrance, Sr., Pine Bluff, Arkansas, as trustee, to acquire voting shares of Greenwoods Financial Group, Inc., and thereby indirectly acquire voting shares of The Greenwood's State Bank, both in Lake Mills, Wisconsin.

B. Federal Reserve Bank of Minneapolis (Jacqueline G. King, Community Affairs Officer) 90 Hennepin Avenue, Minneapolis, Minnesota 55480-0291:

1. The Traxshares Trust U/A dated December 5, 2012, (“Trust”) and Greg Gerard Traxler, Le Center, Minnesota, individually and as Co-Trustee, to retain voting shares of Traxshares, Inc., and thereby indirectly retain voting shares of The First National Bank of Le Center, both in Le Center, Minnesota.

Board of Governors of the Federal Reserve System, April 18, 2013.
Margaret McCloskey Shanks,
Deputy Secretary of the Board.

[FR Doc. 2013-09501 Filed 4-22-13; 8:45 am]

BILLING CODE 6210-01-P